SMALL BUSINESS ADMINSTRATION

Announcement of Open Federal Advisory Committee Meetings

AGENCY: U.S. Small Business Administration (SBA).

ACTION: Notice of open Federal Advisory Committee meetings.

SUMMARY: The SBA is issuing this notice to announce the location, date, time and agenda for the 3rd quarter meetings of the National Small Business Development Center (SBDC) Advisory Board.

DATES: The meetings for the 3rd quarter will be held on the following dates:

Tuesday, April 21, 2015 at 1:00 p.m. EST

Tuesday, May 19, 2015 at 1:00 p.m. EST

Tuesday, June 16, 2015 at 1:00 p.m. EST

ADDRESSES: These meetings will be held via conference call.

FOR FUTHER INFORMATION CONTACT: These meetings are open to the public however advance notice of attendance is requested. Anyone wishing to be a listening participant must contact Alanna Falcone by mail, fax, or email at Alanna Falcone, U.S. Small Business Administration, Financial Program Analyst, 409 Third Street SW., Washington, DC 20416; Phone: 202-619-1612; Fax: 202-481-0134; email: alanna.falcone@sba.gov.

Additionally, if you need accommodations because of a disability or require additional information, please contact Alanna Falcone at the information above.

SUPPLEMENTARY INFORMATION: Pursuant to section 10(a) of the Federal Advisory Committee Act (5 U.S.C. Appendix 2), SBA announces the meetings of the National SBDC Advisory Board. This Board provides advice and counsel to the SBA Administrator and Associate Administrator for Small Business Development Centers.

The purpose of these meetings is to discuss following issues pertaining to the SBDC Advisory Board:

• SBA Update

• Annual Meetings

• Board Assignments

• Member Roundtable

Authority: 15 U.S.C. 648(i).

Dated: March 19, 2015.
Miguel J. L'Heureaux,
Committee Management Officer.

[FR Doc. 2015-06977 Filed 3-26-15; 8:45 am]

BILLING CODE 8025-01-P